DEPARTMENT OF LABOR

Employment and Training Administration

[TA-W-59,153]

IBM Corporation; Somers, NY; Notice of Termination of Investigation

Pursuant to section 221 of the Trade Act of 1974, as amended, an investigation was initiated on September 22, 2003, in response to a petition filed on behalf of workers at IBM Corporation, Somers, New York.

The petition regarding the investigation has been deemed invalid. In order to establish a valid petition, there must be at least three workers to sign the petition. The petition in this case did not meet this threshold number. Consequently, the investigation has been terminated.

Signed at Washington, DC this 7th day of April 2006.
Elliott S. Kushner,
Certifying Officer, Division of Trade Adjustment Assistance.

[FR Doc. E6-6098 Filed 4-21-06; 8:45 am]

BILLING CODE 4510-30-P